DEPARTMENT OF ENERGY

Convention on Supplementary Compensation for Nuclear Damage Contingent Cost Allocation

AGENCY: Office of the General Counsel, Department of Energy.

ACTION: Notice of extension of public comment period for reply comments.

SUMMARY: On July 27, 2010, the Department of Energy (DOE) published in the Federal Register, a notice of inquiry (NOI) and request for comment from the public to assist in its development of regulations pertaining to section 934 of the Energy Independence and Security Act of 2007 (“Act”) . The NOI stated that comments were to be submitted by September 27, 2010. This notice announces that the period for submitting comments is extended to October 27, 2010.

DATES: DOE will accept comments and information regarding the NOI and the development of regulations under the Act received no later than October 27, 2010.

ADDRESSES: Any comments submitted must identify section 934 of the Act, as appropriate. Comments may be submitted using any of the following methods:

• E-mail: Section 934 Rulemaking@Hq.Doe.Gov. Include Section 934 in the subject line of the message.

• Postal Mail: Sophia Angelini, Attorney-Advisor, Office of the General Counsel for Civilian Nuclear Programs, GC-52, U.S. Department of Energy, l000 Independence Avenue, SW., Room 6A-167, Washington, DC 20585; Telephone (202) 586-0319. Please submit one signed original and three paper copies of all comments.

FOR FURTHER INFORMATION CONTACT: Sophia Angelini, Attorney-Advisor, Office of the General Counsel for Civilian Nuclear Programs, GC-52, U.S. Department of Energy, 1000 Independence Avenue, SW., Washington, DC 20585; Telephone (202) 586-0319.

SUPPLEMENTARY INFORMATION: On July 27, 2010, the DOE published an NOI in the Federal Register (75 FR 43945) on the development of regulations under section 934 of the Act, entitled Convention on Supplementary Compensation for Nuclear Damage Contingent Cost Allocation. Section 934 addresses how the United States will meet its obligations under the Convention on Supplementary Compensation for Nuclear Damage (CSC) and, in particular, its obligation to contribute to an international supplementary fund in the event of certain nuclear incidents. Section 934 authorizes the Secretary of Energy to issue regulations establishing a retrospective risk pooling program by which nuclear suppliers will reimburse the United States government for its contribution to the international supplementary fund. This retrospective risk pooling program will operate with respect to nuclear incidents that are covered by the international supplementary fund, take place outside the United States, and are not covered by the Price-Anderson Act indemnification.

The NOI requested public comment from interested persons regarding specific as well as general questions and provided for the submission of comments by September 27, 2010. To date, DOE has received comments dated August 10, 2010 from the Nuclear Energy Institute (NEI), stating that the breadth and number of topics on which comment has been requested will require substantial time and significant effort by nuclear suppliers to amass relevant data, analyses and other information to be considered by DOE. NEI also referred to “the potential amount of the retrospective liability to be borne by individual companies, the varying impact of such liability on companies of vastly different sizes with vastly different revenues, and the wide variety of goods and services supplied and the time over which they are supplied,” as a basis for nuclear suppliers identifying a host of difficult issues related to the administration of any CSC risk pooling program that warrants additional time for nuclear suppliers to provide comments to DOE. For these reasons, NEI requested that the deadline for public comment be extended for an additional thirty (30) days, to October 27, 2010.

DOE has determined that extension of the comment period is appropriate based on the foregoing reasons. An extended comment period also supports DOE's interest in obtaining detailed and comprehensive commentary from nuclear suppliers and other interested stakeholders. DOE is hereby extending the comment period to October 27, 2010. DOE will consider any comments received by October 27, 2010 and deems any comments received between publication of the NOI and October 27, 2010 to be timely submitted.

Issued in Washington, DC, on August 18, 2010.
Scott Blake Harris,
General Counsel.

[FR Doc. 2010-20968 Filed 8-23-10; 8:45 am]

BILLING CODE 6450-01-P